NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: November 7, 2012: 11:00 a.m. to 5:00 p.m., November 8, 2012: 8:30 a.m. to 3:30 p.m.

Place: NSF Headquarters, Room 375, 4201 Wilson Boulevard, Arlington, VA 22230.

Type of Meeting: Open.

Contact Person: Amanda Edelman, National Science Foundation, 4201 Wilson Boulevard, Arlington, VA 22230. Telephone: (703) 292-8600 or email: aedelman@nsf.gov.

Purpose of Meeting: To provide advice with respect to the Foundation's science technology, engineering, and mathematics (STEM) education and human resources programming.

Agenda

November 7, 2012 (Wednesday Morning)

• Welcoming Remarks

• Opening Introductions/Discussion with AC Members

• National Challenges in STEM Education and Strategic Direction of EHR

Working Lunch

November 7, 2012 (Wednesday Afternoon)

• Collaborations Across NSF

• Committee of Visitors Results and Discussion

November 8, 2012 (Thursday Morning)

• Research and Development in EHR

• Evaluation and Monitoring Plan

Working Lunch

November 8, 2012 (Thursday Afternoon)

• Strategic Communication Discussion

• Dialogue with NSF Director and Deputy Director

• Next Steps and Future Meeting Topics

Adjournment

Susanne Bolton,
Committee Management Officer.

[FR Doc. 2012-24648 Filed 10-4-12; 8:45 am]

BILLING CODE 7555-01-P